DEPARTMENT OF HOMELAND SECURITY

Coast Guard

33 CFR Part 117

[Docket No. USCG-2018-0799]

Drawbridge Operation Regulation; Columbia River, Portland, OR and Vancouver, WA

AGENCY: Coast Guard, DHS.

ACTION: Notice of deviation from drawbridge regulation.

SUMMARY: The Coast Guard has issued a temporary deviation from the operating schedule that governs the Interstate 5 (I-5) Bridge, north bound, across the Columbia River, mile 106.5, between Portland, Oregon, and Vancouver, Washington. The deviation is necessary to conduct gear alignment and bearing clearances. This deviation allows the bridge to remain in the closed-to-navigation position during the event.

DATES: This deviation is effective from 12:01 a.m. on September 10, 2018, to 11:59 p.m. on September 19, 2018.

ADDRESSES: The docket for this deviation, USCG-2018-0799 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Oregon Department of Transportation (bridge owner) requested a temporary deviation from the operating schedule for the I-5 Bridge, north bound, mile 106.5, across the Columbia River between Vancouver, WA, and Portland, OR, to align lift span operating rope drive gear and sheave bearing clearances. The I-5 Bridge provides three designated navigation channels with vertical clearances ranging from 39 to 72 feet above Columbia River Datum 0.0 while the lift span is in the closed-to-navigation position. The normal operating schedule for the I-5 Bridge is 33 CFR 117.869. The deviation is effective from 12:01 a.m. on September 10, 2018 until 11:59 p.m. on September 19, 2018. The I-5 Bridges (north bound) are to remain in the closed to navigation position for the duration of the deviation, and need not be raised upon signal. Waterway usage on this part of the Columbia River includes vessels ranging from large commercial ships and tug and tow vessels to recreational pleasure craft.

Vessels able to pass under the bridge in the closed-to-navigation positions may do so at any time. The bridge will not be able to open for emergencies, and there is no immediate alternate route for vessels to pass except for the fixed height spans. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: August 22, 2018.
Steven M. Fischer,
Bridge Administrator, Thirteenth Coast Guard District.

[FR Doc. 2018-18592 Filed 8-27-18; 8:45 am]

BILLING CODE 9110-04-P